DEPARTMENT OF COMMERCE

National Oceanic and Atmospheric Administration

RIN 0648-XC603

Pacific Fishery Management Council; Public Meeting

AGENCY: National Marine Fisheries Service (NMFS), National Oceanic and Atmospheric Administration (NOAA), Commerce.

ACTION: Notice of public meeting.

SUMMARY: The Stock Assessment Review Panels (STAR Panels) will hold work sessions to review stock assessments using data-moderate methods, as well as tier 1 benchmark stock assessments for petrale sole and darkblotched rockfish, rougheye rockfish and aurora rockfish, shortspine thornyhead and longspine thornyheads, and cowcod and Pacific sanddabs, all of which are open to the public.

DATES: The meetings will be held April 22-26, 2013; May 13-17, 2013; July 8-12, 2013; July 22-26, 2013; and August 5-9, 2013. See SUPPLEMENTARY INFORMATION for specific dates and times.

ADDRESSES: The meetings will be held in Santa Cruz, CA and Seattle, WA. See SUPPLEMENTARY INFORMATION for specific locations.

Council address: Pacific Fishery Management Council (Pacific Council), 7700 NE Ambassador Place, Suite 101, Portland, OR 97220-1384.

FOR FURTHER INFORMATION CONTACT: Ms. Stacey Miller, NMFS Northwest Fisheries Science Center; telephone: (541) 961-8475; or Mr. John DeVore, Pacific Fishery Management Council; telephone: (503) 820-2280.

SUPPLEMENTARY INFORMATION: The meetings will be held in April, May, July and August. The meeting dates and times are listed below.

The Stock Assessment Review Panel for data moderate assessments will be held beginning at 8:30 a.m., Monday, April 22, 2013 and end at 5:30 p.m. or as necessary to complete business for the day. The Panel will reconvene on Tuesday, April 23, 2013 and will continue through Friday, April 26, 2013 beginning at 8:30 a.m. and ending at 5:30 p.m. each day, or as necessary to complete business. The Panel will adjourn on Friday, April 26.

The Stock Assessment Review Panel for Petrale sole and darkblotched rockfish stock assessments will be held beginning at 8:30 a.m., Monday, May 13, 2013 and end at 5:30 p.m. or as necessary to complete business for the day. The Panel will reconvene on Tuesday, May 14, 2013 and will continue through Friday, May 17, 2013 beginning at 8:30 a.m. and ending at 5:30 p.m. each day, or as necessary to complete business. The Panel will adjourn on Friday, May 17.

The Stock Assessment Review Panel for the rougheye rockfish and aurora rockfish stock assessments will be held beginning at 8:30 a.m., Monday, July 8, 2013 and end at 5:30 p.m. or as necessary to complete business for the day. The Panel will reconvene on Tuesday, July 9, 2013 and will continue through Friday, July 12, 2013 beginning at 8:30 a.m. and ending at 5:30 p.m. each day, or as necessary to complete business. The Panel will adjourn on Friday, July 12.

The Stock Assessment Review Panel for the shortspine thornyhead and longspine thornyhead stock assessments will be held beginning at 8:30 a.m., Monday, July 22, 2013 and end at 5:30 p.m. or as necessary to complete business for the day. The Panel will reconvene on Tuesday, July 23, 2013 and will continue through Friday, July 26, 2013 beginning at 8:30 a.m. and ending at 5:30 p.m. each day, or as necessary to complete business. The Panel will adjourn on Friday, July 26.

The Stock Assessment Review Panel for the cowcod and Pacific sanddabs stock assessments will be held beginning at 8:30 a.m., Monday, August 5, 2013 and end at 5:30 p.m. or as necessary to complete business for the day. The Panel will reconvene on Tuesday, August 6, 2013 and will continue through Friday, August 9, 2013 beginning at 8:30 a.m. and ending at 5:30 p.m. each day, or as necessary to complete business. The Panel will adjourn on Friday, August 9.

The meetings will be held in Santa Cruz, CA and Seattle, WA. The specific meetings and their locations are listed below.

The Stock Assessment Review Panel for the data moderate stock assessments will be held at the National Marine Fisheries Service, Southwest Fisheries Science Center, Santa Cruz Laboratory, 110 Shaffer Road, Santa Cruz, CA 95060; telephone: (831) 420-3900.

The Stock Assessment Review Panel for the Petrale sole and darkblotched rockfish stock assessments will be held at the Silver Cloud University Inn, 5036 25th Avenue NE., Seattle, WA 98105; telephone: (206) 526-5200.

The Stock Assessment Review Panel for the rougheye rockfish and aurora rockfish stock assessments will be held at the National Marine Fisheries Service, Northwest Fisheries Science, The Auditorium, 2725 Montlake Blvd. East, Seattle, WA 98112-2097; telephone: (206) 860-3200.

The Stock Assessment Review Panel for the shortspine thornyhead and longspine thornyhead stock assessments will be held at the National Marine Fisheries Service, Northwest Fisheries Science, The Auditorium, 2725 Montlake Blvd. East, Seattle, WA 98112-2097; telephone: (206) 860-3200.

The Stock Assessment Review Panel for the cowcod and Pacific sanddabs stock assessments will be held at the National Marine Fisheries Service, Southwest Fisheries Science Center, Santa Cruz Laboratory, 110 Shaffer Road, Santa Cruz, CA 95060; telephone: (831) 420-3900.

The purpose of the Stock Assessment Review Panels is to review draft 2013 stock assessment documents and any other pertinent information for stock assessments using data-moderate methods as well as category 1 benchmark stock assessments for petrale sole, darkblotched rockfish, rougheye rockfish, aurora rockfish, shortspine thornyhead, longspine thornyhead, cowcod and Pacific sanddabs, work with the Stock Assessment Teams to make necessary revisions; and produce Stock Assessment Review Panel reports for use by the Pacific Council family and other interested persons for developing management recommendations for 2015-16 fisheries. No management actions will be decided by the STAR Panels. The Panel's role will be development of recommendations and reports for consideration by the Pacific Council at its June meeting in Garden Grove, CA and its September meeting in Boise, ID.

Although non-emergency issues not contained in the meeting agenda may come before the STAR Panels participants for discussion, those issues may not be the subject of formal Stock Assessment Review Panel action during these meetings. Panel action will be restricted to those issues specifically listed in this notice and any issues arising after publication of this notice that require emergency action under Section 305(c) of the Magnuson-Stevens Fishery Conservation and Management Act, provided the public has been notified of the Panel participants' intent to take final action to address the emergency.

All visitors to the National Marine Fisheries Service science centers should bring photo identification to the meeting location. Visitors who are foreign nationals (defined as a person who is not a citizen or national of the United States) will require additional security clearance to access the NOAA facilities. Foreign national visitors should contact Ms. Stacey Miller at (541) 961-8475 at least 2 weeks prior to the meeting date to initiate the security clearance process.

Special Accommodations

The meetings are physically accessible to people with disabilities. Requests for sign language interpretation or other auxiliary aids should be directed to Ms. Carolyn Porter at (503) 820-2280 at least 5 days prior to the meeting date.

Dated: March 26, 2013.
Tracey L. Thompson,
Acting Deputy Director, Office of Sustainable Fisheries, National Marine Fisheries Service.

[FR Doc. 2013-07364 Filed 3-28-13; 8:45 am]

BILLING CODE 3510-22-P